DEPARTMENT OF THE INTERIOR

National Park Service

[NPS-WASO-NRNHL-19480; PPWOCRADI0, PCU00RP14.R50000]

National Register of Historic Places; Notification of Pending Nominations and Related Actions

AGENCY: National Park Service, Interior.

ACTION: Notice.

SUMMARY: The National Park Service is soliciting comments on the significance of properties nominated before September 26, 2015, for listing or related actions in the National Register of Historic Places.

DATES: Comments should be submitted by November 3, 2015.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before September 26, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Calaveras County

Calaveritas Creek Bridge, Calaveritas Rd. at Calaveritas Cr., Calaveritas, 15000767

MAINE

Kennebec County

Foster Farm Barn, 538 Augusta Rd., Belgrade, 15000768

Penobscot County

Gordon Fox Ranch, 680 W. Broadway, Lincoln, 15000769

York County

Goodwin, Edmund E., House, 503 Main St., Sanford, 15000770

St. Andrews Parish,

73, 77 Bacon & 39, 41 Sullivan Sts., Biddeford, 15000771

MISSOURI

Jackson County

Commerce Trust Company Historic District, Bounded by E. 9th, Walnut, E. 10th & Main Sts., Kansas City, 15000772

St. Louis Independent City

Home of the Friendless, The, 4431 S. Broadway, St. Louis (Independent City), 15000773

NEW JERSEY

Hunterdon County

Raven Rock Historic District, Quarry Rd., Delaware Township, 15000774

NEW YORK

Monroe County

Congregation Ahavas Achim Anshi Austria, 692 Joseph Ave., Rochester, 15000775

Nassau County

Franklin Square National Bank, 925 Hempstead Tpk., Franklin Square, 15000776

Rockland County

First Reformed Church, 361 Ferdon Ave., Piermont, 15000777

OREGON

Linn County

Cyrus, Henry and Mary, Barn, (Barns of Linn County, Oregon MPS) 37964 Balm Dr., Lebanon, 15000778

Multnomah County

Washington High School, 1300 SE. Stark St., Portland, 15000779

A request to remove has been received for the following resources:

COLORADO

Kit Carson County

Winegar Building, 494-498 Fourteenth St., Burlington, 86001123

MAINE

Androscoggin County

Bergin Block, 330 Lisbon St., Lewiston, 86002278

Authority: 60.13 of 36 CFR part 60

Dated: October 1, 2015.
J. Paul Loether,
Chief, National Register of Historic Places/National Historic Landmarks Program.

[FR Doc. 2015-26418 Filed 10-16-15; 8:45 am]

BILLING CODE 4312-51-P